FEDERAL RETIREMENT THRIFT INVESTMENT BOARD

Sunshine Act Notice

Time and Date: 9 a.m. (EDT) September 17, 2002.

Place: 4th Floor, Conference Room, 1250 H Street, NW., Washington, DC.

Status: Parts will be open to the public and part closed to the public.

Matters to be Considered:

Parts Open to the Public

1. Approval of the minutes of the August 19, 2002, Board member meeting.

2. Thrift Savings Plan activity report by the Executive Director.

3. Review of FY 2002 budget and projected expenditures, approval of FY 2003 proposed budget, and review of FY 2004 budget estimate.

4. Litigation review (closed to the public).

Part Closed to the Public

Litigation review.

CONTACT PERSON FOR MORE INFORMATION: Thomas J. Trabucco, Director, Office of External Affairs, (202) 942-1640.

Dated: September 4, 2002.
David L. Hutner,
Secretary to the Board, Federal Retirement Thrift Investment Board.

[FR Doc. 02-22804 Filed 9-4-02; 12:41 am]

BILLING CODE 6760-01-M